DEPARTMENT OF AGRICULTURE

Cooperative State Research, Education, and Extension Service

Notice of Request for Extension and Revision of a Currently Approved Information Collection

AGENCY: Cooperative State Research, Education, and Extension Service, USDA.

ACTION: Notice and request for comments.

SUMMARY: In accordance with the Paperwork Reduction Act of 1995 and Office of Management and Budget (OMB) implementing regulations, this notice announces the Cooperative State Research, Education, and Extension Service's (CSREES) intention to revise and extend a currently approved information collection, Form CSREES-1232, “Project Summary,” Form CSREES-1233, “Conflict of Interest List,” and Form CSREES-1234, “National Environmental Policy Act Exclusions Form”.

DATES: Comments on this notice must be received on or before July 20, 2000, to be assured of consideration.

ADDRESSES: Address all comments concerning this notice to Sally J. Rockey, Deputy Administrator, Competitive Research Grants and Awards Management, CSREES, USDA, STOP 2240, Washington, D.C. 20250-2240. E-mail: OEP@reeusda.gov.

FOR FURTHER INFORMATION CONTACT: Sally J. Rockey, (202) 401-1761.

SUPPLEMENTARY INFORMATION: Titles: Project Summary; Conflict of Interest List; and National Environmental Policy Act Exclusions Form.

OMB Number: 0524-0033.

Expiration Date of Approval: May 31, 2000.

Type of Request: Revise and extend currently approved information collection.

Abstract: CSREES has primary responsibility for providing linkages between the Federal and State components of a broad-based, national agricultural research, extension, and education system. Focused on national issues, its purpose is to represent the Secretary of Agriculture and carry out the intent of Congress by administering formula and grant funds appropriated for agricultural research, extension, and education. Before awards can be made, certain information is required from applicants as part of an overall proposal package. This information includes project summaries, descriptions of the research, literature reviews, curricula vitae of principal investigators, other relevant technical aspects of the proposed project, and supporting documentation of an administrative and budgetary nature.

Since several programs use these forms and some programs are peer reviewed and others are not, the number of copies requested by CSREES varies. The number required may be as few as three and as many as fifteen. If the proposals are not peer reviewed fewer copies are needed since copies are not needed for members of a peer review panel. If a program uses a peer review panel the number of copies may still vary since the size of the panels vary with each program. Multiple copies are requested as a result of a desire to minimize delays in beginning the review process that would be caused if CSREES were required to make the copies inhouse, and minimization of the risk of proposals becoming separated, incorrectly organized, or misplaced during a high volume, minimally-staffed, time-driven photocopying process.

CSREES developed a general “Application Kit” (OMB Approval 0525-0022) for most of its programs. This kit includes the necessary forms and instructions for applicants requesting support under various competitive and noncompetitive funding programs sponsored by CSREES. In 1994, CSREES sought and received approval of three additional forms. These forms include: Form CSREES-1232, “Project Summary,” Form CSREES-1233, “Conflict of Interest List,” and Form CSREES-1234, “National Environmental Policy Act Exclusions Form”. These forms are primarily used for proposal evaluation and administration. While some of the information will be used to respond to inquiries from Congress and other government agencies, the forms are not designed to be statistical surveys or data collection instruments. Their completion by potential recipients is a normal part of an application to Federal agencies for support for basic and applied scientific research, education and extension activities.

The following information has been collected and will continue to be collected through these forms:

CSREES-1232—Project Summary: Lists the Principal Investigator(s) and their institution(s), the proposal type (distinguishes among funding mechanisms), project title, and key words, along with a project summary which allows for quick screening and assignment of proposals to peer reviewers.

CSREES-1233—Conflict of Interest List: Lists the person(s) in the field who by virtue of a current or prior relationship with the applicant may have a conflict of interest for purposes of selecting peer review panel members. This information aims to assure objective reviews, and the form has been revised to specifically cite potential conflicts of interest by category to assist applicants and CSREES in identifying such conflicts to better meet the standards in the various program administrative regulations.

CSREES-1234—National Environmental Policy Act Exclusions Form: Assists identification of whether a proposal fits within one of the exclusions listed for compliance with NEPA (as implemented by USDA in 7 CFR part 1b and supplemented by CSREES in 7 CFR part 3407). This information has been and will continue to be used in determinations as to whether further action is needed to meet the NEPA requirements.

Estimate of Burden: Public reporting burden for this collection of information is estimated to average 4.25 hours for Form CSREES-1232, 1.75 hours for Form CSREES-1233, and .25 hours for Form CSREES-1234. This average was based on a survey of grantees who had recently been approved for awards. They were asked to give an estimate of time it took them to complete each form. This estimate was to include such things as: (1) Reviewing the instructions; (2) Searching existing data sources; (3) Gathering and maintaining the data needed; and (4) Actual completion of the forms. The average time it took each respondent was calculated from their responses.

Respondents: Individuals or households, business or other for profit, non-profit institutions and small businesses or organizations.

Estimated Number of Respondents: 3,200 for the CSREES-1232 and CSREES-1233; 5,000 for the CSREES-1234.

Estimated Number of Responses per Respondent: 1.

Estimated Total Annual Burden on Respondents: 20,450 hours, broken down by: 13,600 hours for the CSREES-1232 (4.25 hours per 3,200 respondents); 5,600 hours for the CSREES-1233 (1.75 hours per 3,200 respondents); and 1,250 hours for the CSREES-1234 (one-quarter hour per 5,000 respondents).

Copies of this information collection can be obtained from Sally J. Rockey, Deputy Administrator, CSREES, (202) 401-1761. E-mail: OEP@reeusda.gov.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address in the preamble.

All responses to this notice will be summarized and included in the request for OMB approval. All comments will become a matter of public record.

Done at Washington, DC, on this 8th day of May, 2000.
Charles W. Laughlin,
Administrator, Cooperative State Research, Education, and Extension Service.

[FR Doc. 00-12232 Filed 5-16-00; 8:45 am]

BILLING CODE 3410-22-P